DEPARTMENT OF ENERGY

Federal Energy Regulatory Commission

[Docket No. RP03-76-000]

Southern Natural Gas Company; Notice of Tariff Filing

November 20, 2002.

Take notice that on November 15, 2002, Southern Natural Gas Company (Southern), tendered for filing as part of its FERC Gas Tariff, Seventh Revised Volume No. 1, Seventh Revised Sheet No. 37; and Fourth Revised Sheet No. 48, with an effective date of December 16, 2002.

Southern states that the purpose of the filing is to clarify that Southern's existing overrun charge in Section 2(d) of Southern's Rate Schedule FT and FT-NN applies to volumes from receipt points which are outside of the zone for which a shipper is paying demand charges.

Southern states that copies of the filing will be served upon its shippers and interested state commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-30007 Filed 11-25-02; 8:45 am]

BILLING CODE 6717-01-P